DEPARTMENT OF THE INTERIOR

Minerals Management Service

Agency Information Collection Activities: Proposed Collection, Comment Request

AGENCY: Minerals Management Service (MMS), Interior.

ACTION: Notice of a revision of a currently approved information collection (OMB Control Number 1010-0095).

SUMMARY: To comply with the Paperwork Reduction Act (PRA) of 1995, we are inviting comments on a collection of information that we will submit to the Office of Management and Budget (OMB) for review and approval. The information collection request (ICR) is titled “Request to Exceed Regulatory Allowance Limitation.”

DATES: Submit written comments on or before October 15, 2001.

ADDRESSES: Submit written comments to Carol P. Shelby, Regulatory Specialist, Minerals Management Service, Minerals Revenue Management, P.O. Box 25165, MS 320B2, Denver, Colorado 80225. If you use an overnight courier service, our courier address is Building 85, Room A-614, Denver Federal Center, Denver, Colorado 80225. You may also email your comments to us at mrm.comments@mms.gov. Include the title of the information collection and the OMB control number in the “Attention” line of your comment. Also include your name and return address. Submit electronic comments as an ASCII file avoiding the use of special characters and any form of encryption. If you do not receive a confirmation that we have received your email, contact Ms. Shelby at (303) 231-3151.

FOR FURTHER INFORMATION CONTACT: Carol P. Shelby, telephone (303) 231-3151, FAX (303) 231-3385, email Carol.Shelby@mms.gov.

SUPPLEMENTARY INFORMATION: Title: Request to Exceed Regulatory Allowance Limitation.

OMB Control Number: 1010-0095.

Bureau Form Number: MMS-4393.

Abstract: The Department of the Interior (DOI) is responsible for matters relevant to mineral resource development on Federal and Indian lands and the Outer Continental Shelf (OCS). The Secretary of the Interior (Secretary) is responsible for managing the production of minerals from Federal and Indian lands and the OCS, collecting royalties from lessees who produce minerals, and distributing the funds collected in accordance with applicable laws. The Secretary also has an Indian trust responsibility to manage Indian lands and seek advice and information from Indian beneficiaries. MMS performs the royalty management functions and assists the Secretary in carrying out DOI's Indian trust responsibility.

When paying royalties on Federal or Indian leases, payors are “allowed” to deduct reasonable costs for transportation and/or processing to get the product in a marketable condition. By current regulation, these allowances are limited to specified percentages of the royalty due. However, in some cases, it is reasonable to deduct allowances that exceed the established limits.

Form MMS-4393, Request to Exceed Regulatory Allowance Limitation, is used by royalty payors to request MMS approval to exceed established transportation or processing allowance limits. To request permission to exceed an allowance limit, royalty payors must write a letter to MMS providing the reasons why a higher allowance limit is necessary. Although the request to exceed an allowance limit is voluntary on the part of the payors and results in a benefit to them, many times payors did not provide all of the data needed by MMS to approve or deny a request. The follow-up necessary to obtain the required information created an additional burden for both the payor and MMS.

MMS developed Form MMS-4393 to be included with the payor's request letter to ensure that we receive the data necessary to make a decision on the request. The form requires the payor to provide an Accounting Identification (AID) number for the leased property, the product code identifying the product being transported or processed, and the selling arrangement used to identify the marketing outlet for the product. We estimate the annual burden to complete this information collection is 30 minutes per request.

Request for Revision. MMS will be requesting OMB approval of a revised Form MMS-4393 to take effect when our new computer system is operational. This revision is necessary to make Form MMS-4393 compatible with other recently revised forms such as the Form MMS-2014, Report of Sales and Royalty Remittance (1010-0140). These revisions are the result of a major reengineering of MMS's financial and compliance processes and the procurement of a new computer system. For example, during the reengineering process MMS decided to eliminate the reporting of an accounting identification (AID) number and selling arrangement number on all existing forms. In their place, MMS is requiring a combination of lease and agreement numbers and sales type codes. Since the existing Form MMS-4393 contains columns for AID number and selling arrangement number, these columns must be removed and new columns for lease numbers, agreement numbers, and sales type codes must be added. The revised form requires similar types of information to be provided by the lessee so we do not anticipate any changes in burden hours.

Submission of the information in this collection is necessary when requesting to exceed regulatory allowance limits on Federal and Indian properties. Proprietary information that is submitted is protected, and there are no questions of a sensitive nature included in this information collection.

Frequency: On occasion.

Estimated Number and Description of Respondents: 75.

Estimated Annual Reporting and Recordkeeping “Hour” Burden: 37.

Estimated Annual Reporting and Recordkeeping “Non-hour Cost” Burden: We have identified no “non-hour cost” burdens.

Comments: The PRA (44 U.S.C. 3501, et seq.) provides that an agency may not conduct or sponsor, and a person is not required to respond to, a collection of information unless it displays a currently valid OMB control number. Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request and the ICR will also be posted on our web site at http://www.mrm.mms.gov/Laws_R_D/FRNotices/FRInfColl.htm.

Public Comment Policy. We will post all comments in response to this notice on our web site at http://www.mrm.mms.gov/Laws_R_D/InfoColl/InfoColCom.htm. We will also make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: July 5, 2001.
Cathy J. Hamilton,
Acting Associate Director for Minerals Revenue Management.

[FR Doc. 01-20530 Filed 8-14-01; 8:45 am]

BILLING CODE 4310-MR-P